DEPARTMENT OF LABOR

Employee Benefits Security Administration

[Application Number D-12098]

Comment Period Extension for Proposed Exemption for Certain Prohibited Transaction Restrictions Involving UBS AG (UBS) Located in Zurich, Switzerland

AGENCY: Employee Benefits Security Administration, Labor.

ACTION: Notice of Proposed Exemption; Extension of comment period.

SUMMARY: The Department of Labor (the Department) is extending the comment period for a proposed individual prohibited transaction exemption (the Proposed Exemption) that would allow current and future asset managers under the UBS corporate umbrella to continue their reliance on PTE 84-14 if they meet the Proposed Exemption's conditions, notwithstanding the judgments of conviction involving entities within the UBS and CSAG corporate umbrellas that are described in the Proposed Exemption.

DATES: The time period for comments and requests for a public hearing on the Proposed Exemption, published June 11, 2024 at 89 FR 49213 is extended to July 29, 2024.

ADDRESSES: All written comments and requests for a hearing should be sent to the Employee Benefits Security Administration (EBSA), Office of Exemption Determinations, Attention: Application No. D-12098 via email to e-OED@dol.gov or online through https://www.regulations.gov before the end of the extended comment period. The application for the exemption and the comments received will be available for public inspection in the Public Disclosure Room of the Employee Benefits Security Administration, U.S. Department of Labor, Room N-1515, 200 Constitution Avenue NW, Washington, DC 20210. Comments and hearing requests will also be available online at https://www.regulations.gov at no charge.

FOR FURTHER INFORMATION CONTACT: Nick Schroth, Office of Exemption Determinations, Employee Benefits Security Administration, U.S. Department of Labor, (202) 693-8571 (this is not a toll-free number).

SUPPLEMENTARY INFORMATION: On June 11, 2024, the Department published the Proposed Exemption in the Federal Register that would allow current and future asset managers under the UBS corporate umbrella to continue to rely on PTE 84-14 if certain conditions are met.¹ The proposed exemption established a public comment period deadline of July 15, 2024. The Department recently received two requests to extend the comment period to provide the requestors with additional time to prepare full and complete comment submissions. Based upon those requests and the significance of the Proposed Exemption's relief of the current and former UBS asset managers' ineligibility to rely on PTE 84-14, the Department has concluded that it is appropriate to grant an additional 10 days to receive input from commenters.

¹ Proposed Exemption for Certain Prohibited Transaction Restrictions Involving UBS AG (UBS) Located in Zurich, Switzerland (89 FR 49213 (June 11, 2024)).

Therefore, the Department is hereby extending the comment period until July 29, 2024. The Department encourages commenters to review the instructions for submitting comments that is provided in the Proposed Exemption.²

² Id.

Warning: All comments received will be included in the public record without change and may be made available online at https://www.regulations.gov, including any personal information provided, unless the comment includes information claimed to be confidential or other information whose disclosure is restricted by statute. If you submit a comment, EBSA recommends that you include your name and other contact information in the body of your comment, but DO NOT submit information that you consider to be confidential, or otherwise protected (such as a Social Security number or an unlisted phone number) or confidential business information that you do not want publicly disclosed. However, if EBSA cannot read your comment due to technical difficulties and cannot contact you for clarification, EBSA might not be able to consider your comment.

Additionally, the https://www.regulations.gov website is an “anonymous access” system, which means EBSA will not know your identity or contact information unless you provide it in the body of your comment. If you send an email directly to EBSA without going through https://www.regulations.gov, your email address will be automatically captured and included as part of the comment that is placed in the public record and made available on the internet.

Signed at Washington, DC.
George Christopher Cosby,
Director, Office of Exemption Determinations, Employee Benefits Security Administration, U.S. Department of Labor.

[FR Doc. 2024-15809 Filed 7-15-24; 4:15 pm]

BILLING CODE 4510-29-P